DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Reporting of Sea Turtle Incidental Takes in Virginia Chesapeake Bay Pound Net Operations.

Form Number(s): None.

OMB Approval Number: 0648-0470.

Type of Request: Regular submission.

Burden Hours: 102.

Number of Respondents: 53.

Average Hours Per Response: 10 minutes.

Needs and Uses: The year-round reporting of sea turtle incidental take is necessary to (1) monitor the level of incidental take in the state-monitored pound net fishery, (2) ensure that the level of take does not exceed the Incidental Take Statement issued in conjunction with the Biological Opinion, and (3) verify that the seasonal pound net leader restrictions are adequate to protect sea turtles. The respondents will be Virginia pound net fishermen.

Affected Public: Individuals or households; business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 14, 2006.
Gwellnar Banks,
Management Analyst, Office of the Chief Information Officer.

[FR Doc. E6-2366 Filed 2-17-06; 8:45 am]

BILLING CODE 3510-22-P